DEPARTMENT OF TRANSPORTATION

Office of the Secretary

Notice of Applications for Certificates of Public Convenience and Necessity and Foreign Air Carrier Permits Filed Under Subpart B (Formerly Subpart Q) During the Week Ending November 2, 2001

The following applications for certificates of public convenience and necessity and foreign air carrier permits were filed under subpart B (formerly subpart Q) of the Department of Transportation's procedural regulations (See 14 CFR 301.201 et seq.). The due date for answers, conforming applications, or motions to modify scope are set forth below for each application. Following the answer period, DOT may process the application by expedited procedures. Such procedures may consist of the adoption of a show-cause order, a tentative order, or in appropriate cases a final order without further proceedings.

Docket Number: OST-2001-10928.

Date Filed: October 30, 2001.

Due Date for Answers, Conforming Applications, or Motion to Modify Scope: November 20, 2001.

Description: Application of Dutch Caribbean Airline N.V. d/b/a Dutch Caribbean Express (DCE), pursuant to 49 U.S.C. section 41302 and subpart B, requesting a foreign air carrier permit authorizing DCE to engage in scheduled foreign air transportation of persons, property and mail from behind the Netherlands Antilles via the Netherlands Antilles and intermediate points to a point or points in the United States and beyond, and to operate charters to and from the US in accordance with DOT's regulations.

Andrea M. Jenkins,
Federal Register Liaison.

[FR Doc. 01-28915 Filed 11-19-01; 8:45 am]

BILLING CODE 4910-62-P